Title 3—

The President

Proclamation 9058 of November 15, 2013

American Education Week, 2013

By the President of the United States of America

A Proclamation

Education is both a pillar of democracy and a cornerstone of American opportunity. In an increasingly competitive world, it gives our children the tools to thrive and our Nation the talent to lead. During American Education Week, we reaffirm our commitment to the next generation, and we celebrate everyone who is striving to help America's young people realize their full potential.

Every day throughout America, our children mark the many milestones of learning—from scribbling their first attempts at the alphabet to conducting their first science experiment to crossing the stage at commencement. The educators who guide them deserve our highest admiration, respect, and support for investing in young people's futures. We all have a stake in public education, and we all have a role to play—from parents and mentors to community leaders and business owners. Through programs focused on tutoring, sports, the arts, and vocational training, we can inspire children to learn both inside and outside the classroom.

A great education is a ticket into the middle class, and it should be available to everyone willing to work for it. My Administration is committed to reining in college costs and reducing the burden student loans place on young people. We are also moving forward on a plan to connect 99 percent of America's students to high-speed internet within 5 years; pushing to make high-quality early education accessible to every child in America; and working to strengthen programs in science, technology, engineering, and mathematics. Because none of these plans will succeed without outstanding teachers, we must support these professionals as they perform their vital work.

As we move toward Thanksgiving, American Education Week offers a chance to express our gratitude to educators across our Nation. Let us do so with a renewed commitment to giving every young American the opportunities a world-class education affords.

NOW, THEREFORE, I, BARACK OBAMA, President of the United States of America, by virtue of the authority vested in me by the Constitution and the laws of the United States, do hereby proclaim November 17 to November 23, 2013, as American Education Week. I call upon all Americans to observe this week by supporting their local schools through appropriate activities, events, and programs designed to help create opportunities for every school and student in America.

IN WITNESS WHEREOF, I have hereunto set my hand this fifteenth day of November, in the year of our Lord two thousand thirteen, and of the Independence of the United States of America the two hundred and thirty-eighth.

[FR Doc. 2013-28018

Filed 11-19-13; 11:15 am]

Billing code 3295-F4